DEPARTMENT OF HOMELAND SECURITY

Coast Guard

33 CFR Part 100

[Docket No. USCG-2023-0136]

Special Local Regulations; Seventh Coast Guard District, Blessing of the Fleet—St. Augustine

AGENCY: Coast Guard, DHS.

ACTION: Notification of enforcement of regulation.

SUMMARY: The Coast Guard will enforce special local regulations for the Blessing of the Fleet—St. Augustine on April 2, 2023, to provide for the safety of life on navigable waterways during this event. Our regulation for marine events within the Seventh Coast Guard District identifies the regulated area for this event in St. Augustine, FL. During the enforcement periods, the operator of any vessel in the regulated area must comply with directions from the Patrol Commander or any Official Patrol displaying a Coast Guard ensign.

DATES: The regulations in 33 CFR 100.701, Table 1 to § 100.701, paragraph (c), Item 8, will be enforced from noon until 3 p.m., on April 2, 2023.

FOR FURTHER INFORMATION CONTACT: If you have questions about this notification of enforcement, call or email MST1 Anthony Deangelo, Sector Jacksonville, Waterways Management Division, U.S. Coast Guard; telephone 904-714-7631, email Anthony.Deangelo@uscg.mil.

SUPPLEMENTARY INFORMATION: The Coast Guard will enforce special local regulations in 33 CFR 100.701, Table 1 to § 100.701, paragraph (c), Item 8, for the Blessing of the Fleet—St. Augustine regulated from noon until 3 p.m., on April 2, 2023. This action is being taken to provide for the safety of life on navigable waterways during the event. Our regulation for recurring marine events within the Seventh Coast Guard District, § 100.701, Table 1 to § 100.701, paragraph (c), Item 8, specifies the location of the regulated area for the Blessing of the Fleet—St. Augustine which encompasses portions of the Matanzas River at the St. Augustine Municipal Marina. During the enforcement periods, as reflected in in § 100.701, if you are the operator of a vessel in the regulated area you must comply with directions from the Patrol Commander or any Official Patrol displaying a Coast Guard ensign.

In addition to this notification of enforcement in the Federal Register, the Coast Guard plans to provide notification of this enforcement period via the Local Notice to Mariners, marine information broadcasts, local radio stations and area newspapers.

Dated: March 8, 2023.
J.D. Espino-Young,
Captain, U.S. Coast Guard, Captain of the Port Jacksonville.

[FR Doc. 2023-05110 Filed 3-10-23; 8:45 am]

BILLING CODE 9110-04-P